DEPARTMENT OF COMMERCE

National Oceanic and Atmospheric Administration

50 CFR Part 660

[Docket No.; 040830250-5109-04; I.D. 081304C]

RIN 0648-AS27

Magnuson-Stevens Act Provisions; Fisheries Off West Coast States and in the Western Pacific; Pacific Coast Groundfish Fishery; Biennial Specifications and Management Measures; Correction

AGENCY: National Marine Fisheries Service (NMFS), National Oceanic and Atmospheric Administration (NOAA), Commerce.

ACTION: Final rule; correction.

SUMMARY: On May 3, 2005, the 2005 Pacific whiting (whiting) fishery sector allocations were published in the Federal Register in a final rule that established the whiting fishery specifications in the U.S. exclusive economic zone (EEZ) and state waters off the coasts of Washington, Oregon, and California. The catcher/processor and mothership allocation percentage values in the final rule were transposed. This document corrects that error.

DATES: Effective May 19, 2005.

FOR FURTHER INFORMATION CONTACT: Becky Renko (Northwest Region, NMFS) 206-526-6150.

SUPPLEMENTARY INFORMATION: On May 3, 2005, a final rule was published that established the 2005 fishery specifications for Pacific whiting (whiting) in the U.S. exclusive economic zone and state waters off the coasts of Washington, Oregon, and California was published in the Federal Register on (May 3, 2005; 70 FR 22808). The catcher/processor and mothership sector allocation percentages shown in § 660.323, (a)(2)(i) and (a)(2)(ii) were transposed. Whiting is allocated between the three sectors of the commercial fishery, as follows: 34 percent for the catcher/processor sector; 24 percent for the mothership sector; and 42 percent for the shoreside sector.

Correction

In the rule FR Doc. 05-8817, in the issue of Tuesday, May 3, 2005 (70 FR 22808), make the following correction:

1. On page 22812, in column 2, § 660.323, paragraphs(a)(2)(i) and (a)(2)(ii) are revised to read as follows:

§ 660.323 Pacific whiting allocations, allocation attainment, and inseason allocation, reapportionment.

(a) * * *

(2) * * *

(i) Catcher/processor sector-78,903 mt(34 percent);

(ii) Mothership sector-55,696 mt(24 percent);

* * * * *

Dated: May 13, 2005.
Rebecca Lent,
Deputy Assistant Administrator for Regulatory Programs, National Marine Fisheries Service.

[FR Doc. 05-10023 Filed 5-18-05; 8:45 am]

BILLING CODE 3510-22-S